DEPARTMENT OF ENERGY

Federal Energy Regulatory Commission

[Docket Nos. CP04-386-000 and CP04-395-000]

Golden Pass LNG Terminal, L.P. and Vista del Sol LNG Terminal, L.P.; Clarification of Notice of Technical Conference

November 12, 2004.

On October 27, 2004, a Notice of Technical Conference was issued, stating that attendance at the conference would be limited to parties to the proceeding and to “anyone who has specifically requested to intervene as a party.” This is intended to include any person that has filed a motion to intervene out-of-time by close of business on Monday, November 15, 2004. As stated in the prior notice, any person planning to attend the November 17 conference must register by close of business on Monday, November 15, 2004. Registrations may be submitted either online at http://www.ferc.gov/whats-new/registration/cryo-conf-form.asp or by faxing a copy of the form (found at the referenced online link) to 202-208-0353. All attendees must sign a non-disclosure statement prior to entering the conference. Upon arrival at the hotel, check the reader board in the hotel lobby for venue. For additional information regarding the conference, please contact Kareem Monib at 202-502-6265.

Linda Mitry,
Deputy Secretary.

[FR Doc. E4-3226 Filed 11-17-04; 8:45 am]

BILLING CODE 6717-01-P